DEPARTMENT OF HOMELAND SECURITY

Coast Guard

[USCG-2004-17134]

Commercial Fishing Industry Vessel Safety Advisory Committee

AGENCY: Coast Guard, DHS.

ACTION: Notice of meeting.

SUMMARY: The Commercial Fishing Industry Vessel Safety Advisory Committee (CFIVSAC) will meet to discuss various issues relating to commercial vessel safety in the fishing industry. The meetings are open to the public.

DATES: CFIVSAC will meet on March 30 and 31, 2004, from 8 a.m. to 5 p.m. The meetings may close early if all business is finished. Requests to make oral presentations should reach the Coast Guard on or before March 8, 2004. Written material for distribution at the meeting should reach the Coast Guard on or before March 22, 2004. Requests to have a copy of your material distributed to each member of the committee should reach the Coast Guard on or before March 14, 2004. Send written material with 25 copies and requests to make oral presentations to Ensign Ken Rockhold, Commandant (G-MOC-3), U.S. Coast Guard Headquarters, 2100 Second Street SW., Washington, DC 20593-0001. This notice is available on the Internet at http://dms.dot.gov.

ADDRESSES: CFIVSAC will meet at the Hotel Galvez, 2024 Seawall Boulevard Galveston, Texas 77550. The Web site can be found at: http://www.galveston.com/accom/galvez.html.

FOR FURTHER INFORMATION CONTACT: Lieutenant Ken Vazquez, Assistant to the CFIVSAC Executive Director, telephone (202) 267-0478, fax (202) 267-0506. Information about the CFIVSAC, up to date meeting information, and a listing of the past meeting minutes are available at the following Web site: http://www.uscg.mil/hq/g-m/cfvs/cfivac.htm.

SUPPLEMENTARY INFORMATION: The Commercial Fishing Industry Vessel Safety Advisory Committee (CFIVSAC) will meet to discuss various issues relating to commercial vessel safety in the fishing industry. This meeting is open to the public. Notice of the meetings is given under the Federal Advisory Committee Act, 5 U.S.C. App. 2.

Agenda of Meeting

The agenda includes the following:

(1) Approval of last meeting's minutes.

(2) Brief from the Coast Guard on the Arctic Rose casualty report. The brief will cover lessons learned and recommendations.

(3) Updated status report from the Coast Guard on the commercial fishing vessel World Wide Web site and other communication issues.

(4) Updated report on the implementation of the Personal Digital Assistant Performance Job Aid.

(5) Presentations on substandard commercial fishing vessels.

(6) Vessel stability presentation by the Society of Naval Architects and Marine Engineers (SNAME).

(7) Discussions and working group sessions by the subcommittees on Risk-based Decision-making examinations, training and drill documentation, and production of damage control pamphlets.

Procedural

The meetings are open to the public. Please note the meetings may close early if all business is finished. At the Chair's discretion, members of the public may make presentations during the meeting. If you would like to make an oral presentation at a meeting, please notify the Executive Director no later than March 8, 2004. Written material for distribution at the meeting should reach the Coast Guard no later than March 22, 2004. If you would like a copy of your material distributed to each member of the committee in advance of the meeting, please submit 25 copies to the Executive Director no later than March 14, 2004. Send written material with 25 copies and requests to make oral presentations to Ensign Ken Rockhold, Commandant (G-MOC-3), U.S. Coast Guard Headquarters, 2100 Second Street SW., Washington, DC 20593-0001. This notice is available on the Internet at http://dms.dot.gov.

Information on Services for Individuals With Disabilities

For information on facilities or services for individuals with disabilities or to request special assistance at the meeting, contact the Executive Director at the location listed in the Addresses section of this notice as soon as possible but no later than March 8, 2004.

Dated: February 19, 2004.
Joseph J. Angelo,
Director of Standards, Marine Safety, Security & Environmental Protection.

[FR Doc. 04-4281 Filed 2-25-04; 8:45 am]

BILLING CODE 4910-15-P